DEPARTMENT OF HOMELAND SECURITY

Transportation Security Administration

Reports, Forms, and Recordkeeping Requirements: Agency Information Collection Activity Under OMB Review; Passengers With Disabilities Customer Satisfaction Survey

AGENCY: Transportation Security Administration (TSA), DHS.

ACTION: Notice.

SUMMARY: This notice announces that TSA has forwarded the Information Collection Request (ICR) abstracted below to the Office of Management and Budget (OMB) for review and clearance of an extension of the currently approved collection under the Paperwork Reduction Act. The ICR describes the nature of the information collection and its expected burden. TSA published Federal Register notice, with a 60-day comment period soliciting comments, of the following collection of information on May 18, 2004, 69 FR 28142.

DATES: Send your comments by October 13, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Kathleen Blank, Office of Transportation Security Policy, TSA-9, 601 South 12th Street, Arlington, VA 22202; or by telephone (571) 227-3254; facsimile (571) 227-1374.

SUPPLEMENTARY INFORMATION:

Transportation Security Administration (TSA)

Title: Passengers with Disabilities Customer Satisfaction Survey.

Type of Request: New collection of information.

OMB Control Number: Not yet assigned.

Form(s): Passengers with Disabilities Customer Satisfaction Survey.

Affected Public: Passengers with disabilities and disability advocates.

Abstract: TSA intends to conduct an anonymous, voluntary passenger satisfaction survey distributed by TSA screeners to passengers with disabilities at the conclusion of the screening process. The survey will be self-addressed and postage-paid so that the passenger can return it to TSA at their convenience. Alternatively, passengers may return the survey directly to a TSA screener, if they choose to complete it at the airport. TSA will also distribute surveys to advocacy groups that have worked with us to develop the standard operating procedures for screening passengers with disabilities. These groups will distribute surveys to their members to be returned to TSA. Passengers also will have the option of accessing a Web-based version of the survey and completing it online. Feedback from surveys completed online will be available at TSA. The survey will seek feedback on TSA's standard procedures for screening (1) Passengers with hearing, vision, mobility, and hidden disabilities, as well as other medical conditions, and (2) the assistive devices, equipment, aids, and supplies accompanying passengers in each category. TSA will use the results to evaluate and improve service to passengers with disabilities.

Number of Respondents: 30,000.

Estimated Annual Burden Hours: 5,000.

Estimated Annual Cost Burden: $0.00.

TSA is soliciting comments to:

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on September 7, 2004.
Susan T. Tracey,
Chief Administrative Officer.

[FR Doc. 04-20553 Filed 9-10-04; 8:45 am]

BILLING CODE 4910-62-M